DEPARTMENT OF ENERGY

Federal Energy Regulatory Commission

[Docket Nos. ER08-370-000; EL08-22-006]

Missouri River Energy Services, Western Minnesota Municipal Power Agency; Notice of Motion To Withdraw Filing and Request for Expedited Action

On March 23, 2011, Missouri River Energy Services and Western Minnesota Municipal Power Agency (collectively, MRES/WMMPA) filed a motion to withdraw its Attachment O transmission formula rate tariff sheets under the Midwest Independent Transmission System Operator, Inc.'s (Midwest ISO) Open Access Transmission, Energy and Operating Reserve Markets Tariff. MRES/WMMPA also request that the Commission act on this motion no later than May 1, 2011. MRES/WMMPA state that in light of changed circumstances, MRES has determined that it desires to now use the Midwest ISO's pro forma Non-levelized Template therefore its initial choice to use the Cash Flow Template Attachment O transmission formula rate filed in the above proceedings is no longer needed.

Any person desiring to intervene or to protest this filing must file in accordance with Rules 211 and 214 of the Commission's Rules of Practice and Procedure (18 CFR 385.211 and 385.214). Protests will be considered by the Commission in determining the appropriate action to be taken, but will not serve to make protestants parties to the proceeding. Any person wishing to become a party must file a notice of intervention or motion to intervene, as appropriate. Such notices, motions, or protests must be filed on or before the comment date. Anyone filing a motion to intervene or protest must serve a copy of that document on the Applicant. On or before the comment date, it is not necessary to serve motions to intervene or protests on persons other than the Applicant.

The Commission encourages electronic submission of protests and interventions in lieu of paper using the “eFiling” link at http://www.ferc.gov. Persons unable to file electronically should submit an original and 14 copies of the protest or intervention to the Federal Energy Regulatory Commission, 888 First Street, NE., Washington, DC 20426.

This filing is accessible on-line at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Comment Date: 5 p.m. Eastern Time on April 22, 2011.

Dated: April 15, 2011.
Kimberly D. Bose,
Secretary.

[FR Doc. 2011-9800 Filed 4-21-11; 8:45 am]

BILLING CODE 6717-01-P